Proclamation 10291 of October 15, 2021

National Forest Products Week, 2021

By the President of the United States of America

A Proclamation

For thousands of years, humans have relied on forests for food, fuel, shelter, and medicine among other important uses. Today, forests support the livelihoods of people across the globe, providing jobs and an economic base for families and communities. In the United States, our forests are vital to our Nation, our people, and our economy. They provide wildlife habitat, clean air and water, and renewable materials and energy for the benefit of Americans. Forests also provide Americans countless opportunities for recreation and relaxation, and they remain vital for ceremonies and cultural practices long held by Tribal Nations. During National Forest Products Week, we celebrate the wealth of products and benefits our forests provide, and we recommit ourselves to wisely and sustainably stewarding them to meet our Nation's needs today and long into the future.

While celebrating our forests, we must also acknowledge they are under duress. Climate change threatens our forests by increasing the severity and frequency of wildfires, droughts, floods, and extreme temperatures. My Administration is committed to confronting the climate crisis and the associated challenges facing our forests, including those stemming from biodiversity loss, extreme weather, and insect and disease outbreaks. That is why my Administration launched the “America the Beautiful” initiative with the goal of bringing Americans together to conserve at least 30 percent of our lands and waters by 2030. This initiative elevates forest restoration as a way to create jobs while also reducing the threat of catastrophic wildfires, restoring ecosystem function, and fighting the climate crisis. This ambitious goal will drive us forward to meet the urgent challenges we face in maintaining the health, diversity, and productivity of our forests.

Our forests and the many ecosystem services and wood products they provide are key elements in securing an environmentally sustainable economy. My Administration will continue to advance community-driven conservation and restoration initiatives that will create good jobs—especially in low-income and rural communities—and generate economic growth. My Administration is also supporting business opportunities that advance forest conservation and create jobs by expanding markets for innovative forest products through Federal programs such as the United States Department of Agriculture Forest Service Wood Innovations and Community Wood grant programs. We are proposing investments in sustainable and innovative uses for wood waste materials to produce advanced biofuels, biochar, heat, and power—including through sustainable aviation fuels and other sustainable biofuels. These programs have the potential to support increased connections between the health of our forests, economic opportunity, and the production of valuable renewable energy.

To recognize the importance of the many products generated from our Nation's forests, the Congress, by Public Law 86-753 (36 U.S.C. 123), as amended, has designated the week beginning on the third Sunday in October of each year as “National Forest Products Week” and has authorized and requested the President to issue a proclamation in observance of this week. As part of National Forest Products Week, let us rededicate ourselves to working together across public, Tribal, and private lands to sustain the ability of America's forests to continue to provide the multitude of benefits that will enhance our lives for generations to come.

NOW, THEREFORE, I, JOSEPH R. BIDEN JR., President of the United States of America, by virtue of the authority vested in me by the Constitution and the laws of the United States, do hereby proclaim October 17 through October 23, 2021, as National Forest Products Week. I call upon the people of the United States to join me in this observance and in recognizing all Americans who are responsible for the stewardship of our Nation's beautiful, forested landscapes.

IN WITNESS WHEREOF, I have hereunto set my hand this fifteenth day of October, in the year of our Lord two thousand twenty-one, and of the Independence of the United States of America the two hundred and forty-sixth.

[FR Doc. 2021-23052

Filed 10-19-21; 11:15 am]

Billing code 3395-F2-P